NATIONAL CREDIT UNION ADMINISTRATION

Agency Information Collection Activities: Submission to OMB for Review; Comment Request

AGENCY: National Credit Union Administration (NCUA).

ACTION: Request for comment.

SUMMARY: The NCUA is resubmitting the following information collection to the Office of Management and Budget (OMB) for review and clearance under the Paperwork Reduction Act of 1995 (Pub. L. 104-13, 44 U.S.C. chapter 35). This information collection is published to obtain comments from the public.

DATES: Comments will be accepted until January 27, 2003.

ADDRESSES: Interested parties are invited to submit written comments to NCUA Clearance Officer or OMB Reviewer listed below:

Clearance Officer: Mr. Neil McNamara, (703) 518-6447, National Credit Union Administration, 1775 Duke Street, Alexandria, VA 22314-3428. Fax No. 703-518-6489. E-mail: mcnamara@ncua.gov.

OMB Reviewer: Mr. Joseph F. Lackey, (202) 395-4741, Office of Management and Budget, Room 10226, New Executive Office Building, Washington, DC 20503.

FOR FURTHER INFORMATION: Copies of the information collection requests, with applicable supporting documentation, may be obtained by calling the: NCUA Clearance Officer, Neil McNamara, (703) 518-6447.

It is also available on the following website: www.NCUA.gov.

SUPPLEMENTARY INFORMATION: Proposal for the following collection of information:

OMB Number: 3133-0032.

Form Number: N/A.

Type of Review: Reinstatement, with change, of a previously approved collection for which approval has expired.

Title: Records Preservation. Part 749 of NCUA Regulations directs each credit union to store copies of their members' share and loan balances away from the credit union's premises.

Respondents: All credit unions.

Estimated No. of Respondents/Record keepers: 9,984.

Estimated Burden Hours Per Response: 2 hours.

Frequency of Response: Quarterly.

Estimated Total Annual Burden Hours: 19,968.

Estimated Total Annual Cost: $998,400.

By the National Credit Union Administration Board on December 17, 2002.
Becky Baker,
Secretary of the Board.

[FR Doc. 02-32495 Filed 12-24-02; 8:45 am]

BILLING CODE 7535-01-P